DEPARTMENT OF HOUSING AND URBAN DEVELOPMENT

[Docket No. FR-5267-N-02]

The Performance Review Board

AGENCY: Office of the Deputy Secretary, HUD.

ACTION: Notice of appointment.

SUMMARY: The Department of Housing and Urban Development announces the appointment of Linda M. Cruciani as a member of the Department Performance Review Board. The address is: Department of Housing and Urban Development, Washington, DC 20410-0050.

FOR FURTHER INFORMATION CONTACT: Persons desiring any further information about the Performance Review Board and its members may contact Earnestine Pruitt, Director, Executive Personnel Management Division, Department of Housing and Urban Development, Washington, DC 20410. Telephone (202) 708-1381. (This is not a toll-free number)

Dated: November 13, 2008.
Roy A. Bernardi,
Deputy Secretary.

[FR Doc. E8-27474 Filed 11-18-08; 8:45 am]

BILLING CODE 4210-67-P